ENVIRONMENTAL PROTECTION AGENCY

[FRL-9961-46-OARM]

National Advisory Council for Environmental Policy and Technology

AGENCY: Environmental Protection Agency (EPA).

ACTION: Notice of Federal Advisory Committee Meeting.

SUMMARY: Under the Federal Advisory Committee Act, Environmental Protection Agency (EPA) gives notice of a public meeting of the National Advisory Council for Environmental Policy and Technology (NACEPT). NACEPT provides advice to the EPA Administrator on a broad range of environmental policy, technology, and management issues. NACEPT members represent academia, industry, non-governmental organizations, and state, local and tribal governments. The purpose of this meeting is for NACEPT to develop a framework for its next report addressing how to best integrate citizen science work at EPA through effective collaboration and partnerships. In addition, the Assumable Waters Subcommittee under NACEPT will provide an overview of its draft recommendations on how the EPA can best clarify which waters a state or tribe assumes permitting responsibility under the Clean Water Act (CWA) section 404 program. A copy of the meeting agenda will be posted at http://www2.epa.gov/faca/nacept.

DATES: NACEPT will hold a two-day public meeting on May 10, 2017, from 8:30 a.m. to 5:00 p.m. (EST) and May 11, 2017, from 8:30 a.m. to 1:00 p.m. (EST).

ADDRESSES: The meeting will be held at the NC Museum of Natural Sciences, William G. Ross Environmental Conference Center, 11 West Jones Street, Raleigh, North Carolina 27601.

FOR FURTHER INFORMATION, CONTACT: Eugene Green, Designated Federal Officer, green.eugene@epa.gov, (202) 564-2432, U.S. EPA, Office of Resources, Operations and Management, Federal Advisory Committee Management Division (MC1601M), 1200 Pennsylvania Avenue NW., Washington, DC 20460.

SUPPLEMENTARY INFORMATION: Requests to make oral comments or to provide written comments to NACEPT should be sent to Eugene Green at green.eugene@epa.gov by May 3, 2017. The meeting is open to the public, with limited seating available on a first-come, first-served basis. Members of the public wishing to attend should contact Eugene Green via email or by calling (202) 564-2432 no later than May 3, 2017.

Meeting Access: Information regarding accessibility and/or accommodations for individuals with disabilities should be directed to Eugene Green at the email address or phone number listed above. To ensure adequate time for processing, please make requests for accommodations at least 10 days prior to the meeting.

Dated: March 31, 2017.
Eugene Green,
Designated Federal Officer.

[FR Doc. 2017-07812 Filed 4-17-17; 8:45 am]

BILLING CODE 6560-50-P